DEPARTMENT OF COMMERCE

National Oceanic and Atmospheric Administration

50 CFR Part 635

[I.D. 112403A]

Atlantic Highly Migratory Species; Supplemental Environmental Impact Statement (SEIS) for Sea Turtle Bycatch Mitigation in the Atlantic Pelagic Longline Fishery

AGENCY: National Marine Fisheries Service (NMFS), National Oceanic and Atmospheric Administration (NOAA), Commerce.

ACTION: Notice of intent (NOI) to prepare an SEIS; request for comments.

SUMMARY: NMFS announces its intent to prepare an SEIS under the National Environmental Policy Act to assess the potential effects on the human environment of proposed alternatives and actions under a proposed rule to reduce sea turtle bycatch in the Atlantic pelagic longline fishery. The SEIS is intended to address issues regarding allowable fishing gears and techniques in the pelagic longline fishery; possession and use of onboard equipment to minimize sea turtle bycatch and bycatch mortality; modification of time and area closures; and minimum levels of observer coverage. NMFS is requesting comments on the above measures.

DATES: Comments on this action must be received no later than 5 p.m., local time, on December 29, 2003.

ADDRESSES: Written comments on this action should be mailed to Christopher Rogers, Chief, Highly Migratory Species Management Division, National Marine Fisheries Service, 1315 East-West Highway, Silver Spring, MD 20910; or faxed to (301) 713-1917. Comments will not be accepted if submitted via email or Internet.

FOR FURTHER INFORMATION CONTACT: Russell Dunn, Rick Pearson, or Greg Fairclough at (727) 570-5447.

SUPPLEMENTARY INFORMATION: The Atlantic pelagic longline fishery for Atlantic HMS primarily targets swordfish, yellowfin tuna, and bigeye tuna in various areas and seasons. The Atlantic tuna, swordfish, and billfish fisheries are managed under the authority of the Magnuson-Stevens Fishery Conservation and Management Act (Magnuson-Stevens Act) and the Atlantic Tunas Convention Act. The Fishery Management Plan for Atlantic Tunas, Swordfish, and Sharks (HMS FMP) is implemented by regulations at 50 CFR part 635.

Background

On June 14, 2001, NMFS released a Biological Opinion (BiOp) that found that the continued operation of the Atlantic pelagic longline fishery is likely to jeopardize the existence of Atlantic leatherback and loggerhead sea turtles. To avoid jeopardy, the Reasonable and Prudent Alternative (RPA) in the BiOp included a closure of the Northeast Distant (NED) Statistical Area of the Atlantic Ocean and a research program to develop or modify fishing gear and techniques to reduce sea turtle interactions and the mortality associated with such interactions.

As a result of this RPA, NMFS closed the NED (67 FR 45393, July 9, 2002) and undertook a 3-year (2000-2003) experiment in the NED intended to identify fishing gear and technique modifications that may reduce sea turtle interactions. The experiment examined various hook and bait combinations (treatments). Preliminary data suggest the treatments examined may reduce sea turtle interactions by between 50 and 92 percent, depending on species and treatment, and appear to have widely varying impacts, both positive and negative, on target species. Among the hook and bait combinations tested were: 18/0 offset circle hooks using squid as bait, 18/0 offset circle hooks using mackerel as bait, 18/0 non-offset circle hooks using squid as bait, and 9/0 J-hooks using mackeral as bait. NMFS is currently evaluating data from the final year of the experiment and will analyze that data as appropriate.

Based on preliminary data and a review of the current status of the species, NMFS is considering implementing various management measures to reduce sea turtle takes in the Atlantic pelagic longline fishery, including, but not limited to: modification of fishing gears and techniques in the pelagic longline fishery; possession and use of on-board equipment to minimize sea turtle bycatch and bycatch mortality; modification of time and area closures; and increased minimum levels of observer coverage.

Hook and Bait Combinations

Vessels participating in the pelagic longline fishery are currently required to use non-stainless steel corrodible hooks during fishing operations. Vessels participating in this fishery in the Gulf of Mexico are also prohibited from using live bait in the western Gulf of Mexico. NMFS may examine the mandatory use of various hook and bait combinations, as evaluated in the NED experiment, as a potential means of reducing sea turtle bycatch.

Area Closures

There are currently five distinct area closures intended to reduce bycatch in the Atlantic pelagic longline fishery, only one of which, the Northeast Distant Statistical area, was specifically intended to address sea turtle bycach. Current area closures include: the Northeast Distant Statistical Area, closed year-round; the Northeastern United States, closed during the month of June; the Charleston Bump, closed February through April; the East Florida Coast, closed year-round; and, the DeSoto Canyon, closed year-round. NMFS may examine additional and or modifications to existing area closures as a potential means of reducing sea turtle bycatch.

Onboard Bycatch Mitigation

NMFS currently requires pelagic longline vessels to possess and use a variety of equipment to mitigate sea turtle bycatch and bycatch mortality. These include: turtle handling procedures that must be posted in the wheel house; line cutters; and dipnets. NMFS may consider additional gear possession and use requirements, such as dehooking equipment, or moving one nautical mile after an interaction, as a potential means of reducing sea turtle bycatch.

Observer Coverage

The June 14, 2001, BiOp and Recommendations from the International Commission for the Conservation of Atlantic Tunas both require a minimum of five-percent observer coverage in the Atlantic pelagic longline fishery. NMFS may examine the possibility of increasing minimum observer coverage levels in this fishery to improve the quality and quantity of data on bycatch of turtles and other species.

Pelagic Longline Definition

In addition, NMFS is considering possible clarifications of either the pelagic or bottom longline definition.

Request for Comments

NMFS requests comments on management options for this action. Specifically, NMFS requests comments on the following issues and possible options to reduce sea turtle bycatch and bycatch mortality: modification of fishing gears and techniques in the pelagic longline fishery, area closures, onboard bycatch mitigation, and minimum observer coverage levels.

NMFS will proceed with preparation of a draft SEIS and proposed rule, incorporating comments received during the comment period associated with this NOI as appropriate. The draft EIS and proposed rule will include additional opportunities for public comment. NMFS anticipates completing this amendment and any related documents by June 1, 2004.

Authority: 16 U.S.C. 1801 et seq.

Dated: November 25, 2003.
Richard W. Surdi,
Acting Director, Office of Sustainable Fisheries, National Marine Fisheries Service.

[FR Doc. 03-29827 Filed 11-26-03; 8:45 am]

BILLING CODE 3510-22-S